DEPARTMENT OF TRANSPORTATION

Surface Transportation Board

[STB Finance Docket No. 34982]

James Riffin d/b/a The Northern Central Railroad—Acquisition and Operation Exemption—in Baltimore City, MD

James Riffin d/b/a The Northern Central Railroad (NCR), a Class III rail carrier, has filed a verified notice of exemption under 49 CFR 1150.41 to acquire and operate approximately 2.2 miles of the line formerly known as the Maryland and Pennsylvania Railroad line, located between the northerly side of the former Pennsylvania Railroad right-of-way, where the Maryland and Pennsylvania Railroad connected to the former Pennsylvania Railroad line near Pennsylvania Station, along, adjacent and parallel to Falls Road, a distance of approximately 1.4 miles, to where the Maryland and Pennsylvania Railroad right-of-way passed under 29th Street, together with the 0.8-mile long switchback that connected the Maryland and Pennsylvania Railroad to the former Baltimore and Ohio Railroad, on the north side of North Avenue, all in Baltimore City, MD.¹ NCR proposes to interchange with CSX Transportation, Inc., and/or Norfolk Southern Railway Company. NCR also states that no agreement has been reached, but states that agreements are expected to be executed sometime after the filing of its notice.

¹ NCR describes the line it wishes to acquire as part of the “former Maryland and Pennsylvania Railroad.” If, indeed, the line is not part of an existing line of railroad, a verified notice must be filed under 49 U.S.C. 10901 and 49 CFR 1150.31, rather than 49 U.S.C. 10902 and 49 CFR 1150.41.

NCR certifies that its projected annual revenues as a result of the transaction will not exceed those that would qualify it as a Class III rail carrier and will not exceed $5 million.

The earliest this transaction may be consummated is the February 11, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than February 2, 2007 (at least 7 days before the exemption becomes effective).

An original and 10 copies of all pleadings, referring to STB Finance Docket No. 34982, must be filed with the Surface Transportation Board, 1925 K Street, N.W., Washington, DC 20423-0001. In addition, a copy of each pleading must be served on James Riffin d/b/a The Northern Central Railroad, 1941 Greenspring Drive, Timonium, MD 21093.

Board decisions and notices are available on our Web site at “http://www.stb.dot.gov.”

Decided: January 22, 2007.
By the Board, David M. Konschnik, Director, Office of Proceedings.
Vernon A. Williams,
Secretary.

[FR Doc. E7-1251 Filed 1-25-07; 8:45 am]

BILLING CODE 4915-01-P